DEPARTMENT OF COMMERCE

International Trade Administration

[A-570-601]

Tapered Roller Bearings and Parts Thereof, Finished and Unfinished, From the People's Republic of China: Amended Final Results of the Administrative Review of the Antidumping Duty Order

AGENCY: Import Administration, International Trade Administration, Department of Commerce.

DATES: Effective Date: April 23, 2012.

SUMMARY: On January 17, 2012, the Department of Commerce (“Department”) published the final results of the antidumping duty administrative review of tapered roller bearings and parts thereof, finished and unfinished (“TRBs”) from the People's Republic of China (“PRC”), covering the period June 1, 2009, through May 31, 2010.¹ We are amending our Final Results to correct a ministerial error made in the calculation of the antidumping duty margin for Changshan Peer Bearing Company, Ltd. (“CPZ/SKF”) pursuant to section 751(h) of the Tariff Act of 1930, as amended (“the Act”), and 19 CFR 351.224(e).

¹ See Tapered Roller Bearings and Parts Thereof, Finished and Unfinished, From the People's Republic of China: Final Results of the 2009-2010 Antidumping Duty Administrative Review and Rescission of Administrative Review, in Part, 77 FR 2271 (January 17, 2012) (“Final Results”), and accompanying Issues and Decision Memorandum (“IDM”).

FOR FURTHER INFORMATION CONTACT: Demitri Kalogeropoulos AD/CVD Operations, Office 8, Import Administration, International Trade Administration, U.S. Department of Commerce, 14th Street and Constitution Avenue NW., Washington, DC 20230; telephone: (202) 482-2623.

SUPPLEMENTARY INFORMATION:

Background

On January 17, 2012, the Department published the Final Results. On January 23, 2012, pursuant to 19 CFR 351.224(c), the Timken Company (“Timken”) submitted an allegation of a ministerial error regarding the valuation of the steel bar production input for CPZ/SKF and requested that the Department correct the alleged ministerial error in the calculation of CPZ/SKF's dumping margin. No other party submitted ministerial error allegations.

Before the Department could take action on the alleged ministerial error, both Timken and CPZ/SKF filed summonses and complaints with the U.S. Court of International Trade (“CIT”) challenging the Final Results, which vested the CIT with jurisdiction over the administrative proceeding. On March 29, 2012, the CIT granted the Department leave to amend the Final Results.²

² See The Timken Company v. United States, Consol. Ct. No. 12-00035 (CIT March 29, 2012).

Ministerial Errors

A ministerial error as defined in section 751(h) of the Act includes “errors in addition, subtraction, or other arithmetic function, clerical error resulting from inaccurate copying, duplication, or the like, and any other type of unintentional error which the administering authority considers ministerial.” ³

³ See also 19 CFR 351.224(f).

After analyzing the ministerial error allegation, we have determined, in accordance with section 751(h) of the Act and 19 CFR 351.224(e), that we made certain ministerial errors in our calculations for the Final Results. For a detailed discussion of these ministerial errors, as well as the Department's analysis of the errors and allegation, see the Memorandum to the File, “Final Results of the 2009-2010 Administrative Review of the Antidumping Duty Order on Tapered Roller Bearings and Parts Thereof, Finished and Unfinished, from the People's Republic of China: Allegation of Ministerial Error,” dated concurrently with this notice (“Ministerial Error Memo”).

Because the cash deposit rate for two other exporters was based on the calculated rate for CPZ/SKF, and that margin has changed since the Final Results, the separate rate for these two exporters has changed as well. The amended weighted-average dumping margins are as follows:

Amended Final Results
Exporters | Amended Final Margin (Percent)
Changshan Peer Bearing Co., Ltd. | 14.98
Zhejiang Sihe Machine Co., Ltd. | 14.98
Xinchang Kaiyuan Automotive Bearing Co., Ltd. | 14.98

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation that is subject to sanction.

Disclosure

We will disclose the calculations performed for these amended final results within five days of the date of publication of this notice to interested parties in accordance with 19 CFR 351.224(b).

Assessment Rate

Pursuant to section 751(a)(2)(A) of the Act, and 19 CFR 351.212(b), the Department will determine, and U.S. Customs and Border Protection (“CBP”) shall assess, antidumping duties on all appropriate entries of subject merchandise in accordance with the amended final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). On January 31, 2012, and February 2, 2012, the CIT issued injunctions enjoining liquidation of certain entries which are subject to the antidumping duty order on TRBs from the PRC, for the POR.⁴ Accordingly, the Department will not issue assessment instructions for any entries subject to the above-mentioned injunctions to CBP after publication of this notice.

⁴ See Changshan Peer Bearing Co., Ltd v. United States, Court No. 12-0039 (CIT February 2, 2012) and The Timken Company v. United States, Court No. 12-0035(CIT January 31, 2012) both amended on March 8, 2012.

Cash Deposit Requirements

The following cash deposit requirements will be effective retroactively on any entries made on or after January 17, 2012, the date of publication of the Final Results, for all shipments of the subject merchandise entered, or withdrawn from warehouse, for consumption on or after the publication date, as provided for by section 751(a)(2)(C) of the Act: (1) For CPZ/SKF, Zhejiang Sihe Machine Co., Ltd., and Xinchang Kaiyuan Automotive Bearing Co., Ltd., the cash deposit rate will be the amended final margin rate shown above in the “Amended Final Results” section of this notice; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 92.84 percent; and (4) for all non-PRC exporters of subject merchandise which have not received their own rate, the cash deposit rate will be the rate applicable to the PRC exporters that supplied that non-PRC exporter. These deposit requirements shall remain in effect until further notice.

These amended final results are published in accordance with sections 751(a)(1), 751(h) and 777(i)(1) of the Act.

Dated: April 16, 2012.
Paul Piquado,
Assistant Secretary for Import Administration.

[FR Doc. 2012-9740 Filed 4-20-12; 8:45 am]

BILLING CODE 3510-DS-P